DEPARTMENT OF EDUCATION

Applications for New Awards; Investing in Innovation Fund, Development Grants

Correction

In notice document 2012-4357 appearing on pages 11087-11101 in the issue of Friday, February 24, make the following correction:

1. On page 11097, in the first column, in the first bulleted paragraph, in the sixth, twelfth, and twenty-first lines, “4:30” should appear as “4:30:00”.

2. On page 11097, in the second column, in the eighth, twenty-second, and thirtieth lines from the bottom of the page, “4:30” should appear as “4:30:00”.

3. On page 11098, in the first column, in the twenty-seventh line from the bottom, “4:30” should appear as “4:30:00”.

[FR Doc. C1-2012-4357 Filed 4-26-12; 8:45 am]

BILLING CODE 1505-01-D